DEPARTMENT OF COMMERCE

National Oceanic and Atmospheric Administration

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: NOAA Satellite Ground Station Customer Questionnaire.

OMB Control Number: 0648-0227.

Form Number(s): None.

Type of Request: Regular (extension of a currently approved information collection).

Number of Respondents: 300.

Average Hours per Response: 5 minutes.

Burden Hours: 25.

Needs and Uses: This request is for an extension of a currently approved information collection.

NOAA asks people who operate ground receiving stations that receive data from NOAA satellites to complete a questionnaire about the types of data received, its use, the equipment involved, and similar subjects. Members of NOAA's Direct Broadcast User Groups are asked follow-up questions. The data obtained are used by NOAA for short-term operations and long-term planning. Collection of this data assists us in complying with the terms of our Memorandum of Understanding (MOU) with the World Meteorological Organization: United States Department of Commerce, National Oceanic and Atmospheric Administration (NOAA) on area of common interest (2008).

Affected Public: Not-for-profit institutions; business or other for-profit organizations, individuals or households; federal government; state, local or tribal Government.

Frequency: On occasion.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: August 20, 2018.
Sarah Brabson,
NOAA PRA Clearance Officer.

[FR Doc. 2018-18302 Filed 8-23-18; 8:45 am]

BILLING CODE 3510-HR-P